DEPARTMENT OF COMMERCE

Foreign-Trade Zones Board

[S-91-2022]

Foreign-Trade Zone 168—Dallas, Texas; Application for Expansion of Subzone 168G; Sager Electronics, Carrollton, Texas

An application has been submitted to the Foreign-Trade Zones (FTZ) Board by the Metroplex International Trade Development Corporation, grantee of FTZ 168, requesting expanded subzone status for the facilities of Sager Electronics located in Carrollton, Texas. The application was submitted pursuant to the provisions of the Foreign-Trade Zones Act, as amended (19 U.S.C. 81a-81u), and the regulations of the FTZ Board (15 CFR part 400). It was formally docketed on June 8, 2022.

Subzone 168G was approved on November 16, 2020 (S-163-2013, 85 FR 73674, November 19, 2020). The subzone currently consists of the following site: Site 1 (1.46 acres)—2940 Eisenhower Street, Suite 100, Carrollton.

The applicant is requesting authority to expand the subzone to include an additional site: Proposed Site 2 (4.03 acres)—2521 Oakbend Drive, Lewisville. No authorization for production activity has been requested at this time. The proposed expanded subzone would be subject to the existing activation limit of FTZ 168.

In accordance with the FTZ Board's regulations, Camille Evans of the FTZ Staff is designated examiner to review the application and make recommendations to the Executive Secretary.

Public comment is invited from interested parties. Submissions shall be addressed to the FTZ Board's Executive Secretary and sent to: ftz@trade.gov. The closing period for their receipt is July 25, 2022. Rebuttal comments in response to material submitted during the foregoing period may be submitted during the subsequent 15-day period to August 8, 2022.

A copy of the application will be available for public inspection in the “Online FTZ Information Section” section of the FTZ Board's website, which is accessible via www.trade.gov/ftz.

For further information, contact Camille Evans at Camille.Evans@trade.gov.

Dated: June 8, 2022.
Andrew McGilvray,
Executive Secretary.

[FR Doc. 2022-12788 Filed 6-13-22; 8:45 am]

BILLING CODE 3510-DS-P